DEPARTMENT OF THE INTERIOR

Fish and Wildlife Service

[FWS-HQ-JAO-2024-N040; FXGO16621010070-245-FF10G13100; OMB Control Number 1018-New]

Agency Information Collection Activities; Submission to the Office of Management and Budget; Improving Our Understanding of How Trout Anglers Differ in Their Valuations Between Wild and Hatchery Trout

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before October 30, 2024.

ADDRESSES: Written comments and recommendations for the proposed information collection request (ICR) should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-Trout Angler Survey” in the subject line of your comments.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On March 12, 2024, we published in the Federal Register (89 FR 17868) a notice of our intent to request that OMB approve this information collection. In that notice, we solicited comments for 60 days, ending on May 13, 2024. In an effort to increase public awareness of, and participation in, our public commenting processes associated with information collection requests, the Service also published the Federal Register notice on Regulations.gov (Docket No. FWS-HQ-JAO-2024-0029) to provide the public with an additional method to submit comments (in addition to the typical U.S. mail submission method). We received four comments in response to that notice. None of the comments addressed the information collection requirements; therefore, no responses are required to the comments.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Fish and Wildlife Act of 1956 (16 U.S.C. 742(a)-754) establishes a comprehensive national fish and wildlife policy and authorizes the Secretary of the Interior to take steps required for the development, management, advancement, conservation, and protection of fisheries resources and wildlife resources through research, acquisition of refuge lands, development of existing facilities, and other means. The Service, working with others, is responsible for conserving, protecting, and enhancing fish and wildlife and their habitats for the continuing benefit of the American people through Federal programs relating to migratory birds, endangered species, interjurisdictional fish and marine mammals, and inland sport fisheries.

Pursuant to this mission, the Service acts as a trustee for injured natural resources when oil or hazardous substances are spilled or released into the environment. Through data collected, scientific assessment techniques, and extrapolated through economic analyses, trustees seek to identify the natural resources injured from oil or hazardous substances, determine the extent of the injuries, recover damages from those responsible, and plan and carry out restoration activities. The primary benefit of the Service's Natural Resource Damage Assessment and Response (NRDAR) program is to achieve restoration of injured resources for the benefit of the American people, and at no cost. This program seeks compensation from responsible parties to restore natural resources for all and allows all Americans to enjoy clean and safe public rivers and lands.

One aspect of the NRDAR program relates to releases of oil or hazardous substances that result in the loss of wild trout populations. When wild trout populations are killed or injured during a release event, one remedy includes using hatchery trout to replace wild trout populations. The potential problem with this approach is that there is substantial anecdotal evidence that trout anglers view and value catching wild trout and hatchery trout differently. If anglers value wild trout lost in a spill or release more highly than hatchery trout, then they may not have been made fully whole by a restoration action that substitutes hatchery trout for wild trout.¹ An examination of existing trout angler valuation studies found that, in the majority of cases, no attempt was made to distinguish between angler values associated with fishing for hatchery vs. wild trout. This collection proposes a random survey of licensed anglers designed to elicit data sufficient to estimate any differences in preferences and values associated with fishing for wild vs. hatchery trout. The data generated through the proposed information collection will provide theoretically sound and statistically defensible estimates of angler experience values for use in gauging required compensation levels for lost or injured trout resources. For the current collection, State-licensed angler populations from three States are included, focusing on three distinct trout fishing regions of the United States.

¹ Department of the Interior regulations at 43 CFR 11.83 state that trustees may recover the replacement and/or acquisition of equivalent natural resources capable of providing such services (as injured) along with the compensable value of the services lost to the public through the completion of the baseline restoration, rehabilitation, replacement, and/or acquisition of equivalent natural resources.

Legal and administrative justifications for this collection can be found under 43 CFR part 11, Natural Resource Damage Assessments, through the authority of the Comprehensive Environmental Response, Compensation, and Liability Act, as amended, (CERCLA; 42 U.S.C. 9601 et seq.), and the Clean Water Act (CWA; 33 U.S.C. 1251-1376), which give Federal agencies authority to assess damages to natural resources resulting from a release of a hazardous substance or a discharge of oil covered under CERCLA or the CWA and to seek recovery for those damages.

The proposed collection and subsequent analysis will be used by the Service and other NRDAR trustees to improve methods used to properly compensate trout anglers for fishery injuries. The surveys will be designed to support the estimation of the appropriate “compensation ratio” between lost wild trout and hatchery trout used in restoration activities. This information will be used specifically by economists and other analysts tasked with assessing damages and scaling restoration activities.

Further, while the primary goal of the collection is limited to estimating the appropriate compensation ratio between wild and hatchery trout, valuation data will also be collected to allow further refinement of this ratio by area of the Nation, type of water fished, type of fishing gear used, and consumptive vs. catch-and-release fishing, to allow results to be applied in future NRDAR cases across different geographies and demographics.

This study includes a repeat contact mail-back/electronic survey of a random sample of licensed anglers drawn from three representative U.S. States (yet to be determined). We plan to contact a total of 3,000 licensed anglers (1,000/State). Based on previous survey efforts using similar methods, we expect an average response rate of 40 percent across the 3 States, yielding 1,200 completed responses. The total burden for this one-time collection is estimated to be 300 hours.

Mail/Online Follow-up Visitor Survey: The current collection benefits from and builds on a successful Minnesota (MN) 2021 survey instrument ² which incorporated a very similar structure, length, and willingness to pay elicitation question format. This MN random household mail survey was anticipated to have a 14-to-16 percent response rate—typical for this type of unsolicited random household survey. The final response rate for the MN survey was 21 percent, which was considered very good given the methodology and protocol used. This response rate also reflects the interest the general public has in the subject matter. For the Service's mail-back/internet surveys, the population (licensed anglers being asked about fishing) is much more targeted and engaged than the population for general random household surveys. The potential respondents are already engaged in the activity being surveyed and, based on previous National Park Service (NPS) research that the project team has been involved in, are predisposed to cooperate with the survey effort. For this reason and based on the NPS visitor Socioeconomic Monitoring Program (SEM) mail-back response rates, it is anticipated that response rates for the Service's mail-back/online survey will be 40 percent. Assuming a 40 percent response rate (n=1,200; 400/State) with a completion time of 15 minutes, the mail-back/online survey will result in a total burden of 300 hours.

² The Minnesota survey and associated report were prepared for: Western Transportation Institute, College of Engineering, Montana State University and Nevada Department of Transportation NAS-NRC, for the following larger project: Wildlife Vehicle Collision (WVC) Reduction and Habitat Connectivity Task 1—Cost Effective Solutions Transportation Pooled-Fund Project TPF-5(358) (Administered by: Nevada Department of Transportation).

Title of Collection: Improving Our Understanding of How Trout Anglers Differ in Their Valuations Between Wild and Hatchery Trout.

OMB Control Number: 1018-New.

Form Number: None.

Type of Review: New.

Respondents/Affected Public: Individuals/households (licensed anglers drawn from three representative U.S. States).

Total Estimated Number of Annual Respondents: 1,200 (400 respondents from 3 States).

Total Estimated Number of Annual Responses: 1,200.

Estimated Completion Time per Response: 15 minutes.

Total Estimated Number of Annual Burden Hours: 300.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-22271 Filed 9-27-24; 8:45 am]

BILLING CODE 4333-15-P